DEPARTMENT OF JUSTICE

[OMB Number 1105-0092]

Agency Information Collection Activities; Proposed eCollection eComments Requested; Reinstatement Without Change September 11th Victim Compensation Fund (“VCF”) Claim Form

AGENCY: Department of Justice.

ACTION: 30-Day notice.

SUMMARY: The September 11th Victim Compensation Fund, Department of Justice (DOJ), will be submitting the following information collection request to the Office of Management and Budget (OMB) for review and approval in accordance with the Paperwork Reduction Act of 1995. The proposed information collection was previously published in the Federal Register on January 29, 2024, allowing a 60-day comment period.

DATES: Comments are encouraged and will be accepted for 30 days until July 11, 2024.

FOR FURTHER INFORMATION CONTACT: If you have comments especially on the estimated public burden or associated response time, suggestions, or need a copy of the proposed information collection instrument with instructions or additional information, please contact: Kimberly Brown, Director of Operations, September 11th Victim Compensation Fund, 1100 L Street NW, Washington, DC 20531 (855) 885-1555 or (202) 507-6453; email: Kimberly.C.Brown@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1105-0092. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Reinstatement of a previously approved collection.

2. Title of the Form/Collection: VCF Claim Form.

3. Agency form number, if any, and the applicable component of the Department of Justice sponsoring the collection: N/A. Civil Division

4. Affected public who will be asked or required to respond, as well as a brief abstract: Individuals or households.

The September 11th Victim Compensation Fund of 2001 (“VCF” or “Fund”) provides compensation to any individual (or beneficiary of a deceased individual) who was physically injured or killed as a result of the terrorist-related aircraft crashes of September 11, 2001. The information collected from the VCF Claim Form will be used to determine whether claimants will be eligible for compensation from the Fund, and if so, the amount of compensation they will be awarded. The Form consists primarily of two main sections: Eligibility and Compensation.

The Eligibility section seeks the information required by the Zadroga Act to determine whether a claimant is eligible for the Fund, including information related to: participation in lawsuits related to September 11, 2001; presence at a 9/11 crash site between September 11, 2001 and May 30, 2002; and physical harm suffered as a result of the air crashes and/or debris removal.

The Compensation section seeks the information required by the Zadroga Act to determine the amount of compensation for which the claimant is eligible. Specifically, the section seeks information regarding the out-of-pocket losses (including medical expenses) incurred by the claimant that are attributable to the 9/11 air crashes or debris removal; the claimant's loss of earnings or replacement services that are attributable to the 9/11 air crashes or debris removal; and any collateral source payments (such as insurance payments) that the claimant received as a result of the terrorist-related aircraft crashes of September 11, 2001 or debris removal efforts.

5. Obligation to Respond: Required to obtain or retain a benefit.

6. Total Estimated Number of Respondents: 21,000 (total estimate for the time period from June 2024 through June 2027).

7. Estimated Time per Respondent: 8 hours.

8. Frequency: One time only.

9. Total Estimated Annual Time Burden: The estimated annual burden associated with this collection is 168,000 hours.

10. Total Estimated Annual Other Costs Burden:

Total Burden Hours
Activity | Number of respondents | Frequency | Total annual responses | Time per response (hours) | Total annual burden (hours)
September 11th Victim Compensation Fund Claim Form | 21,000 | 1/annually | 21,000 | 8 | 168,000

If additional information is required, contact: Darwin Arceo, Department Clearance Officer, Policy and Planning Staff, Justice Management Division, United States Department of Justice, Two Constitution Square, 145 N Street NE, 4W-218, Washington, DC 20530.

Darwin Arceo,
Department Clearance Officer for PRA, U.S. Department of Justice.

[FR Doc. 2024-12279 Filed 6-10-24; 8:45 am]

BILLING CODE 4410-12-P